SOCIAL SECURITY ADMINISTRATION

[Docket No. SSA-2017-0012]

Agency Information Collection Activities: Proposed Request

The Social Security Administration (SSA) publishes a list of information collection packages requiring clearance by the Office of Management and Budget (OMB) in compliance with Public Law 104-13, the Paperwork Reduction Act of 1995, effective October 1, 1995. This notice includes a new information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, Email address: OIRA_Submission@omb.eop.gov

(SSA)

Social Security Administration, OLCA, Attn: Reports Clearance Director, 3100 West High Rise, 6401 Security Blvd., Baltimore, MD 21235, Fax: 410-966-2830, Email address: OR.Reports.Clearance@ssa.gov

Or you may submit your comments online through www.regulations.gov, referencing Docket ID Number [SSA-2017-0012].

The information collections below are pending at SSA. SSA will submit them to OMB within 60 days from the date of this notice. To be sure we consider your comments, we must receive them no later than May 15, 2017. Individuals can obtain copies of the collection instruments by writing to the above email address.

Authorization for the Social Security Administration To Obtain Wage and Employment Information From Payroll Data Providers—0960-NEW. Section 824 of the Bipartisan Budget Act (BBA) of 2015, Public Law 114-74, authorizes the Social Security Administration (SSA) to enter into information exchanges with payroll data providers for the purposes of improving program administration and preventing improper payments in the Social Security Disability Insurance (SSDI) and Supplemental Security Income (SSI) programs. SSA will use Form SSA-8240, “Authorization for the Social Security Administration to Obtain Wage and Employment Information from Payroll Data Providers,” to secure the authorization needed from the relevant members of the public to obtain their wage and employment information from payroll data providers. Ultimately, SSA will use this wage and employment information to help determine program eligibility and payment amounts.

The public will be able to complete form SSA-8240 using the following modalities: a paper form; the Internet; and an in-office or telephone interview, during which an SSA employee will document the wage and employment information authorization information on one of SSA's internal systems ((the Modernized Claims System (MCS); the Modernized Supplemental Security Income Claims System (MSSICS); eWork; or iMain)). The individual's authorization will remain effective until one of the following four events occurs:

• SSA makes a final adverse decision on the application for benefits, and the applicant has filed no other claims or appeals under the Title for which SSA obtained the authorization;

• the individual's eligibility for payments ends, and the individual has not filed other claims or appeals under the Title for which SSA obtained the authorization;

• the individual revokes the authorization verbally or in writing; or

• the deeming relationship ends (for SSI purposes only).

SSA will request authorization on an as-needed basis as part of the following processes: (a) SSDI and SSI initial claims; (b) SSI redeterminations; and (c) SSDI Work Continuing Disability Reviews. The respondents are individuals who file for or are currently receiving SSDI or SSI payments, and any person whose income and resources SSA counts when determining an individual's SSI eligibility or payment amount.

Type of Request: Request for a new information collection.

Modality of completion | Number of respondents | Frequency of response | Average burden per response (minutes) | Estimated total annual burden (hours)
SSA-8240 (paper) | 136,150 | 1 | 6 | 13,615
Title II & Title XVI Electronic (MCS, MSSICS, and eWork) | 2,769,800 | 1 | 2 | 92,327
Internet | 927,504 | 1 | 2 | 30,917
Revoking Authorization | 191,673 | 1 | 10 | 31,946
Totals | 4,025,127 |  |  | 168,805

Dated: March 10, 2017.
Naomi R. Sipple,
Reports Clearance Officer, Social Security Administration.

[FR Doc. 2017-05112 Filed 3-14-17; 8:45 am]

BILLING CODE 4191-02-P